DEPARTMENT OF ENERGY

Federal Energy Regulatory Commission

Combined Notice of Filings #1

Take notice that the Commission received the following electric corporate filings:

Docket Numbers: EC17-122-000.

Applicants: Bishop Hill Energy LLC, Blue Sky East, LLC, California Ridge Wind Energy LLC, Canandaigua Power Partners, LLC, Canandaigua Power Partners II, LLC, Erie Wind, LLC, Evergreen Wind Power, LLC, Evergreen Wind Power III, LLC, Imperial Valley Solar 1, LLC, Niagara Wind Power, LLC, Prairie Breeze Wind Energy LLC, Regulus Solar, LLC, Stetson Holdings, LLC, Stetson Wind II, LLC, Vermont Wind, LLC, Orion US Holdings 1 L.P., BRE TERP Holdings Inc.

Description: Application for Authorization under Section 203 of the Federal Power Act and Request for Waivers, Confidential Treatment and Expedited Consideration of Bishop Hill Energy LLC, et al.

Filed Date: 5/25/17.

Accession Number: 20170525-5206.

Comments Due: 5 p.m. ET 6/15/17.

Take notice that the Commission received the following electric rate filings:

Docket Numbers: ER17-1470-001.

Applicants: Duke Energy Progress, LLC.

Description: Tariff Amendment: DEP-PPA RS Nos. 174-177 Supplemental Filing to be effective 7/1/2017.

Filed Date: 5/25/17.

Accession Number: 20170525-5195.

Comments Due: 5 p.m. ET 6/15/17.

Docket Numbers: ER17-1553-001.

Applicants: Duke Energy Progress, LLC.

Description: Tariff Amendment: DEP-Fayetteville RS No. 184 Supplemental Filing to be effective 7/1/2017.

Filed Date: 5/25/17.

Accession Number: 20170525-5197.

Comments Due: 5 p.m. ET 6/15/17.

Docket Numbers: ER17-1557-001.

Applicants: Duke Energy Progress, LLC.

Description: Tariff Amendment: DEP-NCEMPA RS No. 200 Supplemental Filing to be effective 7/1/2017.

Filed Date: 5/25/17.

Accession Number: 20170525-5199.

Comments Due: 5 p.m. ET 6/15/17.

Docket Numbers: ER17-1678-000.

Applicants: Saddleback Ridge Wind, LLC.

Description: § 205(d) Rate Filing: Shared Facilities Agreement to be effective 6/1/2017.

Filed Date: 5/24/17.

Accession Number: 20170524-5178.

Comments Due: 5 p.m. ET 6/14/17.

Docket Numbers: ER17-1679-000.

Applicants: Virginia Electric and Power Company, PJM Interconnection, L.L.C.

Description: § 205(d) Rate Filing: PJM Transmission Owners submit revisions to OATT, Sch 12 for technical amendment to be effective 7/24/2017.

Filed Date: 5/25/17.

Accession Number: 20170525-5096.

Comments Due: 5 p.m. ET 6/15/17.

Docket Numbers: ER17-1680-000.

Applicants: Wabash Valley Power Association, Inc.

Description: § 205(d) Rate Filing: Corrections to eTariff Table of Contents to be effective 8/1/2017.

Filed Date: 5/25/17.

Accession Number: 20170525-5113.

Comments Due: 5 p.m. ET 6/15/17.

Docket Numbers: ER17-1681-000.

Applicants: Wabash Valley Power Association, Inc.

Description: § 205(d) Rate Filing: Amendments to Rate Schedules—Parke County to be effective 7/25/2017.

Filed Date: 5/25/17.

Accession Number: 20170525-5117.

Comments Due: 5 p.m. ET 6/15/17.

Docket Numbers: ER17-1682-000.

Applicants: PJM Interconnection, L.L.C.

Description: § 205(d) Rate Filing: Wholesale Market Participation Agreement No. 4705; Queue No. AC1-197 to be effective 5/8/2017.

Filed Date: 5/25/17.

Accession Number: 20170525-5127.

Comments Due: 5 p.m. ET 6/15/17.

Docket Numbers: ER17-1683-000.

Applicants: American Transmission Systems, Incorporated, Mid-Atlantic Interstate Transmission, LLC, PJM Interconnection, L.L.C.

Description: § 205(d) Rate Filing: ATSI and MAIT submit ECA, Service Agreement Nos. 4560, 4561, 4683 to be effective 5/26/2017.

Filed Date: 5/25/17.

Accession Number: 20170525-5130.

Comments Due: 5 p.m. ET 6/15/17.

Docket Numbers: ER17-1684-000.

Applicants: PJM Interconnection, L.L.C.

Description: § 205(d) Rate Filing: Wholesale Market Participation Agreement No. 4706; Queue No. AC1-198 to be effective 5/8/2017.

Filed Date: 5/25/17.

Accession Number: 20170525-5151.

Comments Due: 5 p.m. ET 6/15/17.

Docket Numbers: ER17-1685-000.

Applicants: Southern California Edison Company.

Description: § 205(d) Rate Filing: GIA and Distribution Service Agreement SCEBESS-007 Project to be effective 5/26/2017.

Filed Date: 5/25/17.

Accession Number: 20170525-5166.

Comments Due: 5 p.m. ET 6/15/17.

Docket Numbers: ER17-1686-000.

Applicants: ITC Midwest LLC.

Description: § 205(d) Rate Filing: Filing of an Amended & Restated Interconnection, Interchange and Construction to be effective 7/24/2017.

Filed Date: 5/25/17.

Accession Number: 20170525-5182.

Comments Due: 5 p.m. ET 6/15/17.

Docket Numbers: ER17-1687-000.

Applicants: AEP Texas Central Company.

Description: § 205(d) Rate Filing: TCC-La Paloma Energy Center IA Fourth Amend & Restated Cancellation to be effective 5/23/2017.

Filed Date: 5/25/17.

Accession Number: 20170525-5184.

Comments Due: 5 p.m. ET 6/15/17.

Docket Numbers: ER17-1688-000.

Applicants: Public Service Company of Oklahoma.

Description: § 205(d) Rate Filing: PSO-OGE Cemetery Road Delivery Point Agreement to be effective 5/1/2017.

Filed Date: 5/25/17.

Accession Number: 20170525-5185.

Comments Due: 5 p.m. ET 6/15/17.

Docket Numbers: ER17-1689-000.

Applicants: AEP Texas Inc.

Description: § 205(d) Rate Filing: AEP TX-Buckthorn Westex Interconnection Agreement to be effective 5/8/2017.

Filed Date: 5/25/17.

Accession Number: 20170525-5189.

Comments Due: 5 p.m. ET 6/15/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2017.
Kimberly D. Bose,
Secretary.

[FR Doc. 2017-11270 Filed 5-31-17; 8:45 am]

BILLING CODE 6717-01-P